INTERNATIONAL TRADE COMMISSION

[Investigation Nos. 332-562 and 332-563]

Global Digital Trade 2: The Business-to-Business Market, Key Foreign Trade Restrictions, and U.S. Competitiveness; and Global Digital Trade 3: The Business-to-Consumer Market, Key Foreign Trade Restrictions, and U.S. Competitiveness; Proposed Information Collection; Comment Request; Global Digital Trade Questionnaire

AGENCY: United States International Trade Commission.

ACTION: Notice.

SUMMARY: In accordance with the provisions of the Paperwork Reduction Act of 1995, the U.S. International Trade Commission (Commission) hereby gives notice that it plans to submit a request for approval of a questionnaire to the Office of Management and Budget (OMB) for review and requests public comment on its draft proposed collection.

DATES: To ensure consideration, written comments must be submitted on or before January 15, 2018.

ADDRESSES: The project leaders for these investigations are Dan Kim and Alissa Tafti (Inv. No. 332-562) and Ricky Ubee and Christopher Robinson (Inv. No. 332-563). Please direct all written comments to the project leaders via email at globaldigitaltrade@usitc.gov or via U.S. mail at U.S. International Trade Commission, 500 E Street SW., Washington, DC 20436.

Additional Information: Copies of the draft questionnaire and other supplementary documents may be downloaded from the USITC Web site at https://www.usitc.gov/globaldigitaltrade. For any questions about these investigations, email globaldigitaltrade@usitc.gov or call 202-205-3225 or 202-205-3342. Hearing-impaired individuals may obtain information on this matter by contacting the Commission's TDD terminal at 202-205-1810. General information concerning the Commission may also be obtained by accessing its Web site (http://www.usitc.gov).

Purpose of Information Collection: The information requested by the questionnaire is for use by the Commission in connection with Investigation No. 332-562, Global Digital Trade 2: The Business-to-Business Market, Key Foreign Trade Restrictions, and U.S. Competitiveness, and Investigation No. 332-563, Global Digital Trade 3: The Business-to-Consumer Market, Key Foreign Trade Restrictions, and U.S. Competitiveness, instituted under the authority of section 332(g) of the Tariff Act of 1930 (19 U.S.C. 1332(g)). These investigations were requested by the U.S. Trade Representative (USTR) on January 13, 2017. These investigations were initiated on May 1, 2017 and notice was published on May 8, 2017 (82 FR 21404). USTR's request includes a component that requires a survey of U.S. firms to gather detailed information on the impact of foreign regulatory and policy measures on their ability to develop and/or supply business-to-business and business-to-consumer digital products and services abroad. This questionnaire is therefore necessary to analyze regulatory and policy measures in key foreign markets that impact (1) the ability of U.S. firms to develop and/or supply digital products and services abroad, and (2) the competitiveness of U.S. firms as well as international trade and investment flows associated with digital products and services. The Commission will deliver the results of its investigation into the business-to-business market to the U.S. Trade Representative by October 29, 2018 and its investigation of the business-to-consumer market to the U.S. Trade Representative by March 29, 2019.

Summary of Proposal: The Commission intends to submit the following draft information collection plan to OMB and invites public comment.

(1) Number of forms submitted: 1.

(2) Title of form: Global Digital Trade Questionnaire.

(3) Type of request: New.

(4) Frequency of use: Industry questionnaire, single data gathering, scheduled for 2018.

(5) Description of respondents: U.S. firms in industries involved in global digital trade.

(6) Estimated number of respondents: 13,000.

(7) Estimated total number of hours to complete the questionnaire per respondent: 15 hours.

(8) Information obtained from the questionnaire that qualifies as confidential business information will be so treated by the Commission and not disclosed in a manner that would reveal the individual operations of a firm. Aggregate responses will be considered NSI as requested by USTR.

SUPPLEMENTARY INFORMATION:

I. Abstract

The U.S. Trade Representative (USTR) has directed the Commission to produce two reports that analyze the regulatory and policy measures in key foreign markets that impact (1) the ability of U.S. firms to develop and/or supply digital products and services abroad, and (2) the competitiveness of U.S. firms as well as international trade and investment flows associated with digital products and services. There will be a single questionnaire used for both investigation 332-562, which will focus on business-to-business digital products and services, and investigation 332-563, which will focus on business-to-consumer digital products and services.

II. Method of Collection

Respondents will be mailed a letter with a link and individual code for accessing the online form. Respondents may also request a fillable form. Once the online form is complete, respondents will be directed to submit the form by selecting a submit button. When respondents complete a fillable form, they may submit it by uploading it to a secure webserver, emailing it to the study team, faxing it, or mailing a hard copy to the Commission.

III. Request for Comments

Comments are invited on (1) whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft questionnaire and other supplementary documents may be downloaded from the USITC Web site at https://www.usitc.gov/globaldigitaltrade.

Comments submitted in response to this notice will be summarized and/or included in the request for OMB approval of this information collection; they will also become a matter of public record.

Issued: November 9, 2017.
By order of the Commission.
Lisa R. Barton,
Secretary to the Commission.

[FR Doc. 2017-24757 Filed 11-15-17; 8:45 am]

BILLING CODE 7020-02-P